DEPARTMENT OF THE INTERIOR

National Park Service

[N6894; NPS-WASO-NAGPRA-NPS0041934; PPWOCRADN0-PCU00RP14.R50000]

Notice of Inventory Completion: University of Florida, Florida Museum of Natural History, Gainesville, FL

AGENCY: National Park Service, Interior.

ACTION: Notice.

SUMMARY: In accordance with the Native American Graves Protection and Repatriation Act (NAGPRA), the University of Florida, Florida Museum of Natural History (FLMNH), has completed an inventory of human remains and associated funerary objects and has determined that there is a cultural affiliation between the human remains and associated funerary objects and Indian Tribes or Native Hawaiian organizations in this notice.

DATES: Repatriation of the human remains and associated funerary objects in this notice may occur on or after March 4, 2026.

ADDRESSES: Send written requests for repatriation of the human remains and associated funerary objects in this notice to David Blackburn, University of Florida, Florida Museum of Natural History, 1659 Museum Road, Gainesville, FL 32611, email NagpraOffice@floridamuseum.ufl.edu.

SUPPLEMENTARY INFORMATION: This notice is published as part of the National Park Service's administrative responsibilities under NAGPRA. The determinations in this notice are the sole responsibility of the FLMNH, and additional information on the determinations in this notice, including the results of consultation, can be found in its inventory or related records. The National Park Service is not responsible for the determinations in this notice.

Abstract of Information Available

Human remains representing at least one individual has been identified from Cape Sable 2 (8MO38). The 940 associated funerary objects are faunal bone, pumice, pottery, and shell. The collection of human remains and artifacts were transferred to FLMNH from the Department of Anthropology at the University of Florida in 1977 (Acc. 80-1). Some of the faunal remains were subsequently separated and curated in the Environmental Archaeology Program (EAP) for identification and analysis (EAP 0344). The Ancestral remains were identified within the faunal samples in EAP. The site was described by John Goggin in 1944 as a midden site, in a mangrove swamp east of the long tongue of prairie running north behind middle to northwest cape. He noted that at the time it was a virtually untouched hammock mound with mangroves around a possible burial mound. The excavation consists of a trench (Trench 1), excavated in 6″ intervals to a depth of 36″. There is a well-established relationship between John Goggin and the University of Florida, Department of Anthropology, so it is possible that the remains were collected during this investigation.

Human remains representing at least one individual has been identified from Pavillion Key (8MO107). There are no associated funerary objects. There is no information relating to the excavation of this burial, although the geographic region is generally associated with the Glades Period (1000 B.C.-A.D. 1700). The Ancestor was presented to the FLMNH in January 1953 by Mr. Orin G. Fogle from Pavillion Key. There are no known hazardous or potentially hazardous substances.

Cultural Affiliation

Based on the information available and the results of consultation, cultural affiliation is reasonably identified by the geographical location or acquisition history of the human remains and associated funerary objects described in this notice.

Determinations

The FLMNH has determined that:

• The human remains described in this notice represent the physical remains of two individuals of Native American ancestry.

• The 940 objects described in this notice are reasonably believed to have been placed intentionally with or near individual human remains at the time of death or later as part of the death rite or ceremony.

• There is a connection between the human remains and associated funerary objects described in this notice and the Miccosukee Tribe of Indians; Seminole Tribe of Florida; and The Seminole Nation of Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after March 4, 2026. If competing requests for repatriation are received, the FLMNH must determine the most appropriate requestor prior to repatriation. Requests for joint repatriation of the human remains and associated funerary objects are considered a single request and not competing requests. The FLMNH is responsible for sending a copy of this notice to the Indian Tribes and Native Hawaiian organizations identified in this notice.

Authority: Native American Graves Protection and Repatriation Act, 25 U.S.C. 3003, and the implementing regulations, 43 CFR 10.10.

Dated: January 22, 2026.
Melanie O'Brien,
Manager, National NAGPRA Program.

[FR Doc. 2026-02031 Filed 1-30-26; 8:45 am]

BILLING CODE 4312-52-P